OFFICE OF PERSONNEL MANAGEMENT

5 CFR Part 532

RIN 3206-AN40

Prevailing Rate Systems; Definition of Kent County, Michigan, and Cameron County, Texas, to Nonappropriated Fund Federal Wage System Wage Areas

AGENCY: U.S. Office of Personnel Management.

ACTION: Final rule.

SUMMARY: This rule amends the geographic boundaries of two nonappropriated fund (NAF) Federal Wage System (FWS) wage areas. Based on recommendations of the Federal Prevailing Rate Advisory Committee (FPRAC), the U.S. Office of Personnel Management (OPM) is defining Kent County, Michigan, as an area of application county to the Macomb, MI, NAF FWS wage area and Cameron County, Texas, as an area of application county to the Nueces, TX, NAF FWS wage area. These changes are necessary due to NAF FWS employees working in Kent and Cameron Counties, and the counties are not currently defined to NAF wage areas.

DATES: Effective date: This regulation is effective on January 19, 2017.

Applicability date: This change applies on the first day of the first applicable pay period beginning on or after February 21, 2017.

FOR FURTHER INFORMATION CONTACT: Madeline Gonzalez, by telephone at (202) 606-2858 or by email at pay-leave-policy@opm.gov.

SUPPLEMENTARY INFORMATION: On August 24, 2016, OPM issued a proposed rule (81 FR 57809) to define Kent County, Michigan, as an area of application county to the Macomb, MI, NAF FWS wage area and Cameron County, Texas, as an area of application county to the Nueces, TX, NAF FWS wage area.

FPRAC, the national labor-management committee responsible for advising OPM on matters concerning the pay of FWS employees, reviewed and recommended this change by consensus.

The proposed rule had a 30-day comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Beth F. Cobert,
Acting Director.

Accordingly, OPM is amending 5 CFR part 532 as follows:

PART 532—PREVAILING RATE SYSTEMS

1. The authority citation for part 532 continues to read as follows:

Authority: 5 U.S.C. 5343, 5346; § 532.707 also issued under 5 U.S.C. 552.

2. The table in appendix D to subpart B is amended by revising the wage area listing for the Macomb, MI, and Nueces, TX, wage areas to read as follows:

Appendix D to Subpart B of Part 532—Nonappropriated Fund Wage and Survey Areas

* * * * *

Definitions of Wage Areas and Wage Area Survey Areas
* * * * *
MICHIGAN
Macomb
Survey Area
Michigan:
Macomb
Area of Application. Survey area plus:
Michigan:
Alpena
Calhoun
Crawford
Grand Traverse
Huron
Iosco
Kent
Leelanau
Ottawa
Saginaw
Washtenaw
Wayne
Ohio:
Ottawa
* * * * *
TEXAS
* * * * *
Nueces
Survey Area
Texas:
Nueces
Area of Application. Survey area plus:
Texas:
Bee
Calhoun
Cameron
Kleberg
San Patricio
Webb
* * * * *

[FR Doc. 2017-00574 Filed 1-18-17; 8:45 a.m.]

BILLING CODE 6325-39-P